ENVIRONMENTAL PROTECTION AGENCY

40 CFR Part 81

[EPA-HQ-OAR-2017-0548; FRL-9977-72-OAR]

RIN 2060-AT94

Additional Air Quality Designations for the 2015 Ozone National Ambient Air Quality Standards

Correction

In rule document 2018-11838, appearing on pages 25776 through 25848, in the issue of Monday, June 4, 2018, make the following corrections:

1. On page 25785, in the table, under Rest of State, the Designation Date for Greenlee County should read “1/16/18”.

2. On page 25824, in the table, insert a row below the row for Union County. On the new row, the Designated Area should read “Van Wert County”, the Designation Date should read “1/16/18”, and the Designation Type should read “Attainment/Unclassifiable”.

[FR Doc. C1-2018-11838 Filed 11-30-18; 8:45 am]

BILLING CODE 1301-00-D